DEPARTMENT OF HEALTH AND HUMAN SERVICES

National Institutes of Health

Center for Scientific Review; Amended Notice of Meeting

Notice is hereby given of a change in the meeting of the Center for Scientific Review Special Emphasis Panel, December 04, 2013, 01:00 p.m. to December 04, 2013, 05:00 p.m., National Institutes of Health, 6701 Rockledge Drive, Bethesda, MD 20892 which was published in the Federal Register on November 05, 2013, 78 FR 214 Pg. 66371.

The meeting will start on December 3, 2013 at 12:00 p.m. and end December 3, 2013 at 5:00 p.m.

The meeting location remains the same. The meeting is closed to the public.

Dated: November 7, 2013.
Carolyn Baum,
Program Analyst, Office of Federal Advisory Committee Policy.

[FR Doc. 2013-27172 Filed 11-13-13; 8:45 am]

BILLING CODE 4140-01-P